DEPARTMENT OF COMMERCE

International Trade Administration

[A-570-890]

Wooden Bedroom Furniture From the People's Republic of China: Rescission of 2019 Antidumping Duty New Shipper Review

AGENCY: Enforcement and Compliance, International Trade Administration, Department of Commerce.

SUMMARY: The Department of Commerce (Commerce) finds that the sale made by Kunshan Jujia Decoration Design Co., Ltd. (Jujia) is a non-bona fide sale. Therefore, we are rescinding this new shipper review (NSR).

DATES: Applicable January 11, 2021.

FOR FURTHER INFORMATION CONTACT: Elizabeth Bremer, AD/CVD Operations, Office IV, Enforcement and Compliance, International Trade Administration, Department of Commerce, 1401 Constitution Avenue NW, Washington, DC 20230; telephone: (202) 482-4987.

SUPPLEMENTARY INFORMATION:

Background

Commerce published its Preliminary Results in this NSR on August 20, 2020.¹ Subsequently, Jujia filed a case brief on September 21, 2020 ² and the American Furniture Manufacturers Committee for Legal Trade and Vaughan-Basset Furniture Company (the petitioners) filed a rebuttal brief on September 24, 2020.³

¹ See Wooden Bedroom Furniture from the People's Republic of China: Preliminary Rescission of 2019 Antidumping Duty New Shipper Review, 85 FR 51413 (August 20, 2020) (Preliminary Results); see also Memorandum, “2019 Antidumping Duty New Shipper Review of Wooden Bedroom Furniture from the People's Republic of China: Preliminary Bona Fide Sales Analysis for Kunshan Jujia Decoration Design Co., Ltd.,” dated August 14, 2020.

² See Jujia's Case Brief, “Wooden Bedroom Furniture from the People's Republic of China: Jujia's Case Brief,” dated September 21, 2020.

³ See Petitioner's Letter, “Wooden Bedroom Furniture from the People's Republic of China: Petitioners' Rebuttal Brief,” dated September 24, 2020.

Scope of the Order

The product covered by this order is wooden bedroom furniture, subject to certain exceptions. Imports of subject merchandise are classified under the following Harmonized Tariff Schedule of the United States (HTSUS) subheadings: 9403.50.9042, 9403.50.9045, 9403.50.9080, 9403.90.7005, 9403.90.7080, 9403.50.9041, 9403.60.8081, 9403.20.0018, 9403.90.8041, 7009.92.1000 and 7009.92.5000. Although the HTSUS subheadings are provided for convenience and custom purposes, the written product description in the order remains dispositive. For a complete description of the scope of the order, see the Issues and Decision Memorandum.⁴

⁴ See Memorandum “Issues and Decision Memorandum for the Final Results of the 2019 Antidumping Duty New Shipper Review of Wooden Bedroom Furniture from the People's Republic of China,” issued concurrently with and hereby adopted by this notice (Issues and Decision Memorandum).

Analysis of Comments Received

The issue discussed in the case and rebuttal briefs is addressed in the Issues and Decision Memorandum.⁵ The Issues and Decision Memorandum is a public document and is on file via Enforcement and Compliance's Antidumping and Countervailing Duty Centralized Electronic Service System (ACCESS). ACCESS is available to registered users at https://access.trade.gov. In addition, a complete version of the Issues and Decision Memorandum can be accessed directly at http://enforcement.trade.gov/frn/. The signed Issues and Decision Memorandum and the electronic version of the Issues and Decision Memorandum are identical in context. The one issue raised in the case brief is listed in the Appendix to this notice.

⁵ Id.

Rescission of the Antidumping New Shipper Review

For the reasons explained in the Issues and Decision Memorandum, Commerce continues to find that the sale made by Jujia is not a bona fide sale for purposes of the AD law. Commerce reached this conclusion based on the totality of the evidence, including, among other things, the sales price and quantity. Because Jujia made no bona fide sales during the period of review (POR), we are rescinding the NSR.

Assessment Rates

As Commerce is rescinding this NSR, Jujia's status with respect to the antidumping duty order on wooden bedroom furniture from the People's Republic of China (China) remains unchanged. Jujia remains part of the China-wide entity and, accordingly, entries of its subject merchandise into the United States during the POR will be assessed at the China-wide rate.

Cash Deposit Requirements

Because we are rescinding this NSR, we are not determining a company-specific cash deposit rate for Jujia. Jujia continues to be part of the China-wide entity and is, therefore, subject to the China-wide entity cash deposit rate of 216.01 percent.⁶

⁶ See Wooden Bedroom Furniture from the People's Republic of China: Final Results of Antidumping Duty Administrative Review and Final Determination of No Shipments; 2018, 85 FR 7731 (February 11, 2020).

Administrative Protective Order

This notice also serves as a reminder to parties subject to an Administrative Protective Order (APO) of their responsibility concerning the return or destruction of proprietary information disclosed under an APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing these results in accordance with sections 751(a)(2)(B) and 777(i)(1) of the Act.

Dated: January 7, 2021.
Joseph A. Laroski Jr.,
Deputy Assistant Secretary for Policy and Negotiations.

Appendix

List of Sections in the Issues and Decision Memorandum

I. Summary

II. Background

III. Scope of the Order

IV. Discussion of the Issues

Comment: Whether Jujia's Sale is Bona Fide

V. Recommendation

[FR Doc. 2021-00531 Filed 1-12-21; 8:45 am]

BILLING CODE 3510-DS-P